DEPARTMENT OF HEALTH AND HUMAN SERVICES

Health Resources And Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluation of Dental Scholarship Pilot Program—New

The establishment of a Dental Scholarship Pilot Program by the Health Resources and Services Administration (HRSA) will provide education and community services training for twenty to twenty-five National Health Service Corps (NHSC) scholarship students from up to nineteen dental schools. During the two year pilot, annual surveys will be sent to students, dental schools, and partners. Four site visits will be made each year with up to four interviews per site visit. These surveys and interviews will assess dental school and partner performance in meeting the requirements of the pilot program, and the experience of the students in receiving exposure and training to community service in underserved areas.

The estimated annual response burden is as follows:

Form | Number of respondents | Responses per respondent | Hours per response | Total hour burden
Survey | 78 | 1 | 2 | 156
Interview | 16 | 1 | 2 | 32
Total | 94 |  |  | 188

Send comments to Susan G. Queen, Ph.D., HRSA Reports Clearance Officer, Room 14-33, Parklawn Building, 5600 Fishers Lane, Rockville, MD 20857. Written comments should be received within 60 days of this notice.

Dated: June 23, 2000.
Jane Harrison,
Director, Division of Policy Review and Coordination.

[FR Doc. 00-16552 Filed 6-29-00; 8:45 am]

BILLING CODE 4160-15-P